DEPARTMENT OF TRANSPORTATION

Office of the Secretary

Notice of Applications for Certificates of Public Convenience and Necessity and Foreign Air Carrier Permits Filed Under Subpart B (Formerly Subpart Q) During the Week Ending June 22, 2007

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: OST-2007-28547.

Date Filed: June 18, 2007.

Due Date for Answers, Conforming Applications, or Motion to Modify Scope: July 9, 2007.

Description: Application of First Choice Airways Limited (“First Choice”), requesting an exemption and an amended foreign air carrier permit authorizing First Choice to conduct: (i) Charter foreign air transportation of persons, property and mail from any point(s) behind any European Community Member State via any point(s) in the European Community Member States and intermediate points to any point(s) in the United States and beyond; (ii) charter foreign air transportation of persons, property and mail between any point(s) in the United States and any point(s) in the European Common Aviation Area; (iii) other charters pursuant to Part 212; and (iv) charters as authorized in the future under the U.S.-E.U. Agreement.

Docket Number: OST-2006-26702.

Date Filed: June 18, 2007.

Due Date for Answers, Conforming Applications, or Motion to Modify Scope: July 9, 2007.

Description: Application of Flying Service N.V. (“Flying Service”), requesting an amendment to its foreign air carrier permit for additional authority to the full extent authorized by the US-EC Agreement to enable it to engage in: (i) Foreign air transportation of persons and property from any point or points behind any Member State of the European Union via any point or points in any Member State and via intermediate points to any point or points in the United States and beyond; and (ii) foreign air transportation of persons and property between any point or points in the United States and any point or points in any member of the European Common Aviation Area. Flying Service further requests corresponding amendment to its exemption to enable it to provide the additional service described above pending issuance of an effective foreign air carrier permit and such additional or other relief as the Department may deem necessary or appropriate.

Docket Number: OST-2007-28550.

Date Filed: June 18, 2007.

Due Date for Answers, Conforming Applications, or Motion to Modify Scope: July 9, 2007.

Description: Application of Aer Lingus Limited (“Aer Lingus”), requesting an exemption and an amended foreign air carrier permit authorizing Aer Lingus to conduct operations to and from the United States to the full extent authorized by the recently signed United States-European Union Air Transport Agreement (“U.S.-E.U. Agreement”), for flight operations on or after March 30, 2008, including authority to engage in: (i) Scheduled and charter foreign air transportation of persons, property and mail from any point(s) behind any Member State(s) of the European Community via any point(s) in any Member State(s) and intermediate points to any point(s) in the United States and beyond; (ii) scheduled and charter foreign air transportation of persons, property and mail between any point(s) in the United States and any point(s) in any member of the European Common Aviation Area; (iii) scheduled and charter foreign cargo air transportation between any point(s) in the United States and any other point(s); (iv) other charters pursuant to Part 212; and (v) transportation authorized by any additional route or other right(s) made available to European Community carriers in the future.

Docket Number: OST-1996-923.

Date Filed: June 21, 2007.

Due Date for Answers, Conforming Applications, or Motion to Modify Scope: July 12, 2007.

Description: Application of Virgin Atlantic Airways Ltd. (“Virgin Atlantic”), requesting an amendment to its existing foreign air carrier permit to provide: (i) Foreign scheduled and charter air transportation of persons, property, and mail from any point or points behind any Member State of the European Union via any point or points in any Member State and via intermediate points to any point or points in the United States and beyond; (ii) foreign scheduled and charter air transportation of persons, property, and mail between any point or points in the United States and any point or points in any member of the European Common Aviation Area; (iii) foreign scheduled and charter cargo air transportation between any point or points in the United States and any other point or points; (iv) other charters pursuant to the prior approval requirements set forth in Part 212; and transportation authorized by any additional route rights made available to European Community carriers in the future. Virgin Atlantic also requests exemption authority to enable it to provide services covered by its foreign air carrier permit.

Docket Number: OST-2007-28588.

Date Filed: June 22, 2007.

Due Date for Answers, Conforming Applications, or Motion to Modify Scope: July 13, 2007.

Description: Application of Skybus Airlines, Inc., requesting a certificate of public convenience and necessity authorizing it to operate scheduled foreign air transportation of persons, property and mail between Port Columbus International Airport, Columbus, Ohio on the one hand, and Nassau, Bahamas and Cancun, Mexico on the other.

Barbara J. Hairston,
Supervisory Docket Officer, Docket Operations, Alternate Federal Register Liaison.

[FR Doc. E7-14794 Filed 7-30-07; 8:45 am]

BILLING CODE 4910-9X-P